DEPARTMENT OF ENERGY

Federal Energy Regulatory Commission

[Docket No. EL01-58-000]

Powerex Corp., Complainant, v. United States Department of Energy, Western Area Power Administration, Rocky Mountain Region/Western Area Colorado Missouri, Respondent; Notice of Complaint

March 23, 2001.

Take notice that on March 22, 2001, Powerex Corp. (Powerex) tendered for filing a Complaint against U.S. Department of Energy—Western Area Power Administration—Rocky Mountain Region/Western Area Colorado Missouri (WACM).

In its Complaint, Powerex alleges that WACM has violated Section 37.6(e)(1) of the Commission's OASIS regulations and the mandatory business practice standards of Order No. 638 by displacing Powerex's unconditional six-month reservation of short-term firm transmission service over the Sidney Tie, which had been confirmed by WACM for service to commence April 1, 2001. Powerex alleges that WACM's actions also contravene the provisions of its Open Access Transmission Tariff and the Standards of Conduct approved by the Commission for WACM. Powerex requests the Commission to act on a fast-track basis and direct WACM to reinstate Powerex's reservation.

Any person desiring to be heard or to protest this filing should file a motion to intervene or protest with the Federal Energy Regulatory Commission, 888 First Street, N.W., Washington, D.C. 20426, in accordance with Rules 211 and 214 of the Commission's Rules of Practice and Procedure (18 CFR 385.211 and 385.214). All such motions or protests must be filed on or before April 11, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before April 11, 2001. Comments, protests and interventions may be filed electronically via the internet in lieu of paper. See, 18 CFR 385.2001(a)(1)(iii) and the instructions on the Commission's web site at ­ http://www.ferc.fed.us/efi/doorbell.htm.

Linwood A. Watson, Jr.,
Acting Secretary.

[FR Doc. 01-7718 Filed 3-28-01; 8:45 am]

BILLING CODE 6717-01-M